CONSUMER PRODUCT SAFETY COMMISSION

[Docket No. CPSC-2009-0092]

Proposed Extension of Approval of Information Collection; Comment Request—Clothing Textiles, Vinyl Plastic Film

AGENCY: Consumer Product Safety Commission.

ACTION: Notice.

SUMMARY: As required by the Paperwork Reduction Act of 1995, the Consumer Product Safety Commission (CPSC or Commission) announces that the Commission has submitted to the Office of Management and Budget (OMB) a request for extension of approval of a collection of information associated with the Standard for the Flammability of Clothing Textiles and the Standard for the Flammability of Vinyl Plastic Film, previously approved under OMB control number 3041-0024. OMB's most recent extension of approval will expire on August 31, 2023. On June 20, 2023, CPSC published a notice in the Federal Register to announce the Commission's intention to seek extension of approval of the collection of information. The Commission received no comments on the burden estimates contained in that notice.

DATES: Submit written or electronic comments not later than September 27, 2023.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at: http://www.regulations.gov, under Docket No. CPSC-2009-0092.

FOR FURTHER INFORMATION CONTACT: Cynthia Gillham, Consumer Product Safety Commission, 4330 East-West Highway, Bethesda, MD 20814; (301) 504-7791, or by email to: cgillham@cpsc.gov.

SUPPLEMENTARY INFORMATION:

A. Background

The Commission has promulgated several standards under section 4 of the Flammable Fabrics Act (FFA; 15 U.S.C. 1193) to prohibit the use of dangerously flammable textiles and related materials in wearing apparel. Clothing and fabrics intended for use in clothing) are generally subject to the Standard for the Flammability of Clothing Textiles (16 CFR part 1610). Clothing made from vinyl plastic film and vinyl plastic film intended for use in clothing is subject to the Standard for the Flammability of Vinyl Plastic Film (16 CFR part 1611). These standards prescribe a test to ensure that articles of wearing apparel, and fabrics and film intended for use in wearing apparel, are not dangerously flammable because of rapid and intense burning.¹

¹ Children's sleepwear and fabrics and related materials intended for use in children's sleepwear in sizes 0 through 14 are subject to other, more stringent flammability standards codified at 16 CFR parts 1615 and 1616.

Section 8 of the FFA (15 U.S.C. 1197) provides that a person who receives a guaranty in good faith that a product complies with an applicable flammability standard is not subject to criminal prosecution for a violation of the FFA resulting from the sale of any product covered by the guaranty. CPSC uses the information compiled and maintained by firms that issue these guaranties to help protect the public from risks of injury or death associated with flammable clothing and fabrics and vinyl film intended for use in clothing. In addition, the information helps CPSC to conduct corrective actions if any products covered by a guaranty fail to comply with the applicable standard in a manner that creates a substantial risk of injury or death to the public. Section 8 of the FFA requires that a guaranty must be based on “reasonable and representative tests.” The testing and recordkeeping requirements for firms that issue guaranties are set forth under 16 CFR part 1610, subpart B, and 16 CFR part 1611, subpart B.

On June 20, 2023, the CPSC published a notice in the Federal Register (88 FR 39833), to announce the agency's intention to seek extension of approval of the collection of information. The Commission received no comments. Therefore, by publication of this notice, the Commission announces that CPSC has submitted to the OMB a request for extension of approval of that collection of information without change.

B. Burden

CPSC staff estimates that approximately 1,000 firms issue guaranties. Although the CPSC's records indicate that approximately 675 firms have filed continuing guaranties with the Commission, staff believes additional guaranties may be issued that are not filed with the Commission, because continuing guaranties are not required to be filed with the Commission. Accordingly, staff has rounded the estimated number of firms upwards to 1,000 to account for those additional guaranties. Staff's estimate is based on the estimated time needed for each firm to conduct testing, issue guaranties, and establish and maintain associated records.

Staff estimates the recordkeeping requirements to require about 5 hours per each test for each firm, using either the test and conditioning procedures in the regulations or alternate methods. Although many firms are exempt from testing to support guaranties under 16 CFR 1610.1(d), CPSC staff does not know the proportion of those firms that are testing versus those that are exempt. Therefore CPSC has calculated its estimate of the annual industry recordkeeping burden based on its estimate that 1,000 firms issue guaranties. Based on, among other things, staff's experience with and expertise in testing requirements and procedures, as well as staff's review of records relating to guaranties that have been filed with the commission, staff estimates that each firm requires approximately 5 hours for testing and issues an average of 20 new guaranties per year, resulting an annual 100 hours (5 hours × 20 guarantees) per firm per year for testing. Staff estimates that each firm requires one hour to create, record, and enter test data into a computerized dataset; 20 minutes (0.3 hours) for annual review/removal of records; 20 minutes (0.3 hours) to respond to one CPSC records request per year, for a total of 1.6 recordkeeping hours (1 hour + 0.3 hours + 0.3 hours = 1.6 hours per firm). This yields a total of 101.6 estimated annual burden hours per firm (100 hours testing + 1.6 hours recordkeeping), and an estimated industry-wide annual recordkeeping burden of 101,600 hours (101.6 hours per firm × 1,000 firms). The hourly compensation for the time required for recordkeeping is $72.91 (for management, professional, and related occupations in goods-producing industries, Bureau of Labor Statistics, September 2022). Accordingly, the total annual estimated costs for testing and recordkeeping to the 1,000 establishments in the industry for the burden hours associated with parts 1610 and 1611 is $7.4 million (101,600 hours × $72.91 = $7,407,656).

Alberta E. Mills,
Secretary, Consumer Product Safety Commission.

[FR Doc. 2023-18475 Filed 8-25-23; 8:45 am]

BILLING CODE 6355-01-P